DEPARTMENT OF LABOR

Occupational Safety and Health Administration

[Docket No. ICR 1218-0219(2005)]

Servicing Multi-Piece and Single Piece Rim Wheels Standard; Extension of the Office of Management and Budget's (OMB) Approval of Information Collection (Paperwork) Requirements

AGENCY: Occupational Safety and Health Administration (OSHA), Labor.

ACTION: Request for public comment.

SUMMARY: OSHA solicits public comment concerning its request for an extension of the information collection requirements contained in its Standard on Servicing Multi-Piece and Single Piece Rim Wheels (29 CFR 1910.177).

DATES: Comments must be submitted by the following dates:

Hard copy: Your comments must be submitted (postmarked or received) by September 20, 2005.

Facsimile and electronic transmission: Your comments must be received by September 20, 2005.

ADDRESSES: You may submit comments, identified by OSHA Docket No. ICR-1218-0219 (2005), by any of the following methods:

Regular mail, express delivery, hand delivery, and messenger service: Submit your comments and attachments to the OSHA Docket Office, Room N-2625, U.S. Department of Labor, 200 Constitution Avenue, NW., Washington, DC 20210; telephone (202) 693-2350 (OSHA's TTY number is (877) 889-5627). OSHA Docket Office and Department of Labor hours are 8:15 a.m. to 4:45 p.m., ET.

Facsimile: If your comments are 10 pages or fewer in length, including attachments, you may fax them to the OSHA Docket Office at (202) 693-1648.

Electronic: You may submit comments through the Internet at http://ecomments.osha.gov. Follow instructions on the OSHA Webpage for submitting comments.

Docket: For access to the docket to read or download comments or background materials, such as the complete Information Collection Request (ICR) (containing the Supporting Statement, OMB-83-I Form, and attachments), go to OSHA's Webpage at http://www.OSHA.gov. In addition, the ICR, comments and submissions are available for inspection and copying at the OSHA Docket Office at the address above. You also may contact Theda Kenney at the address below to obtain a copy of the ICR. For additional information on submitting comments, please see the “Public Participation” heading in the SUPPLEMENTARY INFORMATION section of this document.

FOR FURTHER INFORMATION CONTACT: Theda Kenney or Todd Owen, Directorate of Standards and Guidance, OSHA, Room N-3609, 200 Constitution Avenue, N.W., Washington, DC 20210, telephone: (202) 693-2222.

SUPPLEMENTARY INFORMATION:

I. Background

The Department of Labor, as part of its continuing effort to reduce paperwork and respondent (i.e., employer) burden, conducts a preclearance consultation program to provide the public with an opportunity to comment on proposed and continuing information collection requirements in accordance with the Paperwork Reduction Act of 1995 (PRA-95) (44 U.S.C. 3506(c)(2)(A)).

This program ensures that information is in the desired format, reporting burden (time and costs) is minimal, collection instructions are clearly understand, and OSHA's estimates of the information collection burden is accurate. The Occupational Safety and Health Act of 1970 (the Act) (29 U.S.C. 651 et seq.) authorizes information collection by employers as necessary or appropriate for enforcement of the Act or for developing information regarding the causes and prevention of occupational injuries, illnesses, and accidents (29 U.S.C. 657).

The Standard on Service Multi-Piece and Single Piece Rim Wheels (29 CFR 1910.177) (the Standard) specifies two paperwork requirements. The following sections describe who uses the information collection under the requirements, as well as how they use it. The purpose of the requirements is to reduce employees' risk of death or serious injury by ensuring that restraining devices used by them during the servicing of multi-piece rim wheels are in safe operating condition.

Certification of repair (paragraph (d)(3)(iv)) This paragraph requires that when restraining devices and barriers are removed from service because they are defective, they shall not be returned to service until they are repaired and reinspected. If the repair is structural, the manufacturer or a Registered Professional Engineer must certify that the strength requirements specified in (d)(3)(i) of the Standard have been met. This certification record is used to assure that equipment has been repaired properly. The certification record also provides the most efficient means for OSHA compliance officers to determine that an employer is complying with the Standard.

Marking or tagging of wheel components (paragraph (e)(2)) This paragraph requires that defective wheels and wheels components “be marked or tagged unserviceable and removed from the service area.” Under the requirement, OSHA is providing employers with sufficient information from which they can derive the wording to use in marking the object or constructing a tag. Therefore, this provision imposed no paperwork burden because if falls within the portion of 5 CFR 1320(c)(2) that states, “The public disclosure of information originally supplied by the Federal government to the recipient for the purpose of disclosure to the public is not included within this definition [of ‘collection of information’]”.

II. Special Issues for Comment

OSHA has a particular interest in comments on the following issues:

• Whether the proposed information collection requirements are necessary for the proper performance of the Agency's functions, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

III. Proposed Actions

OSHA proposes to extend the Office of Management and Budget's (OMB) approval of the collection of information (paperwork) requirements contained in the Standard on Servicing Multi-Piece and Single Piece Rim Wheels (29 CFR 1910.177). The Agency will summarize the comments submitted in response to this notice, and will include this summary in its request to OMB to extend the approval of the collection of information requirements contained in the Standard.

Type of Review: Extension of currently approved information collection requirements.

Title: Servicing Multi-Piece and Single Piece Rim Wheels (29 CFR 1910.177).

OMB Number: 1218-0219.

Affected Public: Business or other for-profits; not-for-profit organizations; Federal government; State, local, or tribal government.

Number of Respondents: 8.

Frequency of Response: On occasion.

Number of Respondents: 8.

Average Time Per Response: 3 minutes (.05 hour) to maintain a certificate verifying proper repair of restraining device or barrier and to disclose to an OSHA Compliance Officer.

Estimated Total Burden Hours: 1.

Estimated Cost (Operation and Maintenance): $0.

IV. Public Participation—Submission of Comments on this Notice and Internet Access to Comments and Submission]

You may submit comments and supporting materials in response to this notice by (1) hard copy, (2) fax transmission (facsimile), or (3) electronically through the OSHA Webpage, Because of security-related problems, a significant delay may occur in the receipt of comments by regular mail. Please contact the OSHA Docket Office at (202) 693-2350 (TTY) (877) 889-5627) for information about security procedures concerning the delivery of submissions by express delivery, hand delivery and courier service.

All comments, submissions and background documents are available for inspection and copying at the OSHA Docket Office at the above address. Comments and submissions posted on OSHA's Web page are available at http://www.OSHA.gov. Contact the OSHA Docket Office for information about materials not available through the OSHA Web page and for assistance using the Web page to locate docket submissions.

Electronic copies of this Federal Register notice, as well as other relevant documents, are available on OSHA's Webpage. Since all submissions become public, private information such as social security numbers should not be submitted.

V. Authority and Signature

Jonathan L. Snare, Acting Assistant Secretary of Labor for Occupational Safety and Health, directed the preparation of this notice. The authority for this notice is the Paperwork Reduction Act of 1995 (44 U.S.C. 3506 et. seq.), and Secretary of Labor's Order No. 5-2002 (67 FR 65008).

Signed at Washington, DC, on July 15, 2005.
Jonathan L. Snare.
Acting Assistant Secretary of Labor.

[FR Doc. 05-14544 Filed 7-21-05; 8:45 am]

BILLING CODE 4510-26-M